DEPARTMENT OF COMMERCE

International Trade Administration

[A-560-815]

Carbon and Certain Alloy Steel Wire Rod from Indonesia; Preliminary Results of Antidumping Duty Administrative Review

AGENCY: Import Administration, International Trade Administration, Department of Commerce.

SUMMARY: In response to a request from P.T. Ispat Indo (Ispat Indo), the U.S. Department of Commerce (the Department) is conducting an administrative review of the antidumping duty order on carbon and certain alloy steel wire rod from Indonesia (A-560-815). This administrative review covers imports of subject merchandise from Ispat Indo. The period of review is October 1, 2003, through September 30, 2004.

We preliminarily determine that sales of subject merchandise by Ispat Indo did not make sales of subject merchandise at less than normal value (NV) during the period of review. If these preliminary results are adopted in the final results of this administrative review, we will instruct U.S. Customs and Border Protection (CBP) to liquidate appropriate entries without regard to antidumping duties. Interested parties are invited to comment on these preliminary results. Parties who submit argument in this proceeding are requested to submit with the argument: 1) a statement of the issues, 2) a brief summary of the argument, and 3) a table of authorities.

EFFECTIVE DATE: July 11, 2005.

FOR FURTHER INFORMATION CONTACT: Angelica Mendoza or Judy Lao, AD/CVD Operations, Office 7, Import Administration, International Trade Administration, U.S. Department of Commerce, 14th Street and Constitution Avenue, NW, Washington, DC 20230, telephone: (202) 482-3019 or (202) 482-7924, respectively.

SUPPLEMENTARY INFORMATION:

Background

On October 29, 2002, the Department published in the Federal Register a notice of the antidumping duty orders on carbon and certain alloy steel wire rod (steel wire rod) from Brazil, Indonesia, Mexico, Moldova, Trinidad and Tobago, and Ukraine. See Notice of Antidumping Duty Order: Carbon and Certain Alloy Steel Wire Rod from Brazil, Indonesia, Mexico, Moldova, Trinidad and Tobago, and Ukraine, 67 FR 65945, (October 29, 2002).

On October 27, 2004, Ispat Indo requested that we conduct an administrative review of its sales of the subject merchandise to the United States. On November 19, 2004, the Department initiated an administrative review of the antidumping duty order on steel wire rod from Indonesia for the period October 1, 2003, through September 30, 2004. See Notice of Initiation of Antidumping and Countervailing Duty Administrative Reviews, 69 FR 67701 (November 19, 2004).

On December 3, 2004, the Department issued an antidumping duty questionnaire to Ispat Indo. Ispat Indo submitted its response to Section A of the questionnaire (Section A Response) on January 18, 2005, and its response to Sections B and C (Sections B and C Response) on February 15, 2005. Ispat Indo submitted its response to Section D of the questionnaire on February 8, 2005. On February 15, 2005, the Department received comments from petitioners regarding the February 8, 2005, Section D response. On March 1, 2005, the Department issued a request to revise Ispat Indo's Section D submission to report control number specific weight-average cost of production and constructed value information for the full POR. In addition, the Department issued Ispat Indo a supplemental questionnaire for Sections A-C on March 1, 2005. The Department received Ispat Indo's first supplemental questionnaire response on March 22, 2005. On April 1, 2005, the Department received comments from petitioners, and issued a Section D supplemental questionnaire. On April 4, 2005, petitioners submitted comments regarding the March 22, 2005, Section A, B, and C supplemental questionnaire response, and the revised Section D response. On April 14, 2005, the Department issued a second supplemental questionnaire to Ispat Indo. We received Ispat Indo's Section D supplemental questionnaire response on April 15, 2005. Ispat Indo submitted its second supplemental questionnaire response on April 27, 2005. On April 29, 2005, Ispat Indo submitted its complete package of documents and reconciliation worksheets pursuant to the Department's Section A questionnaire and Ispat Indo's January 18, 2005 response to question 1.h. On May 25, 2005, the Department issued its second supplemental Section D questionnaire. We received Ispat Indo's response on June 1, 2005. On June 10, 2005, we issued a third supplemental Section D questionnaire, and received a partial response from Ispat Indo on June 17, 2005. On June 24, 2005, Ispat Indo completed its response to the June 10, 2005, third supplemental Section D questionnaire. In addition, Ispat Indo submitted a response to the Department's verbal request to clarify its home market database, see, “Request for Clarification of Ispat Indo's Relationship with Certain Home Market Customers”, (Department's Memorandum to the File through Abdelali Elouradia from Angelica Mendoza and Judy Lao), dated June 23, 2005.

Period of Review

The period of review (POR) is October 1, 2003, through September 30, 2004.

Scope of the Order

The merchandise subject to this order is certain hot-rolled products of carbon steel and alloy steel, in coils, of approximately round cross section, 5.00 mm or more, but less than 19.00 mm, in solid cross-sectional diameter.

Specifically excluded are steel products possessing the above-noted physical characteristics and meeting the HTSUS definitions for (a) stainless steel; (b) tool steel; c) high nickel steel; (d) ball bearing steel; and (e) concrete reinforcing bars and rods. Also excluded are (f) free machining steel products (i.e., products that contain by weight one or more of the following elements: 0.03 percent or more of lead, 0.05 percent or more of bismuth, 0.08 percent or more of sulfur, more than 0.04 percent of phosphorus, more than 0.05 percent of selenium, or more than 0.01 percent of tellurium).

Also excluded from the scope are 1080 grade tire cord quality wire rod and 1080 grade tire bead quality wire rod. This grade 1080 tire cord quality rod is defined as: (i) grade 1080 tire cord quality wire rod measuring 5.0 mm or more but not more than 6.0 mm in cross-sectional diameter; (ii) with an average partial decarburization of no more than 70 microns in depth (maximum individual 200 microns); (iii) having no non-deformable inclusions greater than 20 microns and no deformable inclusions greater than 35 microns; (iv) having a carbon segregation per heat average of 3.0 or better using European Method NFA 04-114; (v) having a surface quality with no surface defects of a length greater than 0.15 mm; (vi) capable of being drawn to a diameter of 0.30 mm or less with 3 or fewer breaks per ton, and (vii) containing by weight the following elements in the proportions shown: (1) 0.78 percent or more of carbon, (2) less than 0.01 percent of aluminum, (3) 0.040 percent or less, in the aggregate, of phosphorus and sulfur, (4) 0.006 percent or less of nitrogen, and (5) not more than 0.15 percent, in the aggregate, of copper, nickel and chromium.

This grade 1080 tire bead quality rod is defined as: (i) grade 1080 tire bead quality wire rod measuring 5.5 mm or more but not more than 7.0 mm in cross-sectional diameter; (ii) with an average partial decarburization of no more than 70 microns in depth (maximum individual 200 microns); (iii) having no non-deformable inclusions greater than 20 microns and no deformable inclusions greater than 35 microns; (iv) having a carbon segregation per heat average of 3.0 or better using European Method NFA 04-114; (v) having a surface quality with no surface defects of a length greater than 0.2 mm; (vi) capable of being drawn to a diameter of 0.78 mm or larger with 0.5 or fewer breaks per ton; and (vii) containing by weight the following elements in the proportions shown: (1) 0.78 percent or more of carbon, (2) less than 0.01 percent of soluble aluminum, (3) 0.040 percent or less, in the aggregate, of phosphorus and sulfur, (4) 0.008 percent or less of nitrogen, and (5) either not more than 0.15 percent, in the aggregate, of copper, nickel and chromium (if chromium is not specified), or not more than 0.10 percent in the aggregate of copper and nickel and a chromium content of 0.24 to 0.30 percent (if chromium is specified).

For purposes of the grade 1080 tire cord quality wire rod and the grade 1080 tire bead quality wire rod, an inclusion will be considered to be deformable if its ratio of length (measured along the axis - that is, the direction of rolling - of the rod) over thickness (measured on the same inclusion in a direction perpendicular to the axis of the rod) is equal to or greater than three. The size of an inclusion for purposes of the 20 microns and 35 microns limitations is the measurement of the largest dimension observed on a longitudinal section measured in a direction perpendicular to the axis of the rod. This measurement methodology applies only to inclusions on certain grade 1080 tire cord quality wire rod and certain grade 1080 tire bead quality wire rod that are entered, or withdrawn from warehouse, for consumption on or after July 24, 2003.

The designation of the products as “tire cord quality” or “tire bead quality” indicates the acceptability of the product for use in the production of tire cord, tire bead, or wire for use in other rubber reinforcement applications such as hose wire. These quality designations are presumed to indicate that these products are being used in tire cord, tire bead, and other rubber reinforcement applications, and such merchandise intended for the tire cord, tire bead, or other rubber reinforcement applications is not included in the scope. However, should petitioners or other interested parties provide a reasonable basis to believe or suspect that there exists a pattern of importation of such products for other than those applications, end-use certification for the importation of such products may be required. Under such circumstances, only the importers of record would normally be required to certify the end use of the imported merchandise.

All products meeting the physical description of subject merchandise that are not specifically excluded are included in this scope.

The products under the scope are currently classifiable under subheadings 7213.91.3010, 7213.91.3090, 7213.91.4510, 7213.91.4590, 7213.91.6010, 7213.91.6090, 7213.99.0031, 7213.99.0038, 7213.99.0090, 7227.20.0010, 7227.20.0020, 7227.20.0090, 7227.20.0095, 7227.90.6051, 7227.90.6053, 7227.90.6058, and 7227.90.6059 of the HTSUS. Although the HTSUS subheadings are provided for convenience and customs purposes, the written description of the scope of the order is dispositive.¹

¹ Effective January 1, 2004 and January 1, 2005, CBP reclassified certain HTSUS numbers related to the subject merchandise. See http://hotdocs.usitc.gov/tariff_chapters_current/toc.html.6

Product Comparisons

In accordance with section 771(16) of the Tariff Act of 1930, as amended (the Act), we considered all products covered by the “Scope of the Order” section above, which were produced and sold by Ispat Indo in the home market during the POR, to be foreign like product for the purpose of determining appropriate product comparisons to Ispat Indo's U.S. sales of steel wire rod.

We relied on the following eight product characteristics to match U.S. sales of subject merchandise to sales in Indonesia of the foreign like product (listed in order of preference): grade, carbon content, surface quality, deoxidization, maximum total residual content, heat treatment, diameter, and coating. Where there were no sales of identical merchandise in the home market to compare to U.S. sales, we compared U.S. sales to the next most similar foreign like product on the basis of the characteristics and reporting instructions listed in the Department's questionnaire. See Appendix V of the Department's antidumping duty questionnaire to Ispat Indo dated December 3, 2004.

Fair Value Comparisons

To determine whether Ispat Indo made sales of steel wire rod to the United States at less than fair value, we compared the EP to the NV, as described in the “Export Price” and “Normal Value” sections of this notice, below. In accordance with section 777A(d)(2) of the Act, we compared the EPs of individual U.S. transactions to monthly weighted-average NVs.

Export Price

Section 772(a) of the Act defines EP as the price at which the subject merchandise is first sold (or agreed to be sold) before the date of importation by the producer or exporter of the subject merchandise outside of the United States to an unaffiliated purchaser in the United States or to an unaffiliated purchaser for exportation to the United States, as adjusted under section 772(c) of the Act.

In the instant review, Ispat Indo sold subject merchandise to the United States through an affiliated company in Dubai, United Arab Emirates, and this Dubai-based trading company sold the subject merchandise to the first unaffiliated U.S. customer. Ispat Indo reported all of its U.S. sales of subject merchandise as EP transactions. After reviewing the evidence on the record of this review, we have preliminarily determined that Ispat Indo's transactions are classified properly as EP sales because these sales were first sold before the date of importation by Ispat Indo's affiliated Dubai-based trading company to an unaffiliated purchaser in the United States.

Such a determination is consistent with section 772(a) of the Act and the U.S. Court of Appeals for the Federal Circuit's (Court of Appeals') decision in AK Steel Corp. et al. v. United States, 226 F.3d 1361, 1374 (Fed. Cir. 2000) (AK Steel). In AK Steel, the Court of Appeals examined the definitions of EP and constructed export price (CEP), noting “the plain meaning of the language enacted by Congress in 1994, focuses on where the sale takes place and whether the foreign producer or exporter and the U.S. importer are affiliated, making these two factors dispositive of the choice between the two classifications.” AK Steel, at 226 F.3d at 1369. The Court of Appeals declared, “ the critical differences between EP and CEP sales are whether the sale or transaction takes place inside or outside the United States and whether it is made by an affiliate,” and noted that the phrase “outside the United States” had been added to the 1994 statutory definition of EP. AK Steel, at 226 F.3d at 1368-70. Thus, the classification of a sale as either EP or CEP depends upon where the contract for sale was concluded (i.e., in or outside the United States) and whether the foreign producer or exporter is affiliated with the U.S. importer.

For these EP sales transactions, we calculated price in conformity with section 772(a) of the Act. We based EP on the packed, delivered duty-paid prices to an unaffiliated purchaser in the United States. We also made deductions from the EP starting price, where appropriate, for movement expenses in accordance with section 772(c)(2)(A) of the Act; these included foreign inland freight from the plant/warehouse to the port of exportation, foreign brokerage and handling, international freight, marine insurance, U.S. inland freight, U.S. brokerage and handling and U.S. customs duties.

Normal Value

A. Home Market Viability

In order to determine whether there is a sufficient volume of sales in the home market to serve as a viable basis for calculating NV (i.e., the aggregate volume of home market sales of the foreign like product is equal to or greater than five percent of the aggregate volume of U.S. sales), we compared Ispat Indo's volume of home market sales of the foreign like product to the volume of its U.S. sales of the subject merchandise, in accordance with section 773(a)(1)(B) of the Act. Pursuant to Section 773(a)(1)(B) of the Act and Section 351.404(b) of the Department's regulations, because Ispat Indo's aggregate volume of home market sales of the foreign like product was greater than five percent of its aggregate volume of U.S. sales for the subject merchandise, we determine that sales in the home market provide a viable basis for calculating NV. See Ispat Indo's Section A Response at Exhibit A-1. Moreover, there is no evidence on the record supporting a particular market situation in the exporting company's country that would not permit a proper comparison of home market and U.S. prices. Therefore, we based NV on home market sales in the usual commercial quantities and in the ordinary course of trade.

As such, we used as NV the prices at which the foreign like product was first sold for consumption in Indonesia, in the usual commercial quantities, in the ordinary course of trade and, to the extent possible, at the same level of trade (LOT) as EP sales, as appropriate.

B. Arm's-Length Test

Ispat Indo reported that during the POR, it made sales in the home market to affiliated and unaffiliated original equipment manufacturers (OEMs). If any sales to affiliated customers in the home market were not made at arm's-length prices, we excluded them from our analysis as we consider such sales to be outside the ordinary course of trade. See 19 CFR 351.102(b). To test whether sales to affiliates were made at arm's-length prices, we compared, on a model-specific basis, the starting prices of sales to affiliated and unaffiliated customers net of all discounts and rebates, movement expenses, direct selling expenses, and home market packing. In accordance with the Department's current practice, if the prices charged to an affiliated party were, on average, between 98 and 102 percent of the prices charged to unaffiliated parties for merchandise identical or most similar to that sold to the affiliated party, we consider the sales to be at arm's-length prices. See 19 CFR 351.403(c). Conversely, where the affiliated party did not pass the arm's-length test, all sales to that affiliated party have been excluded from the NV calculation. See Antidumping Proceedings: Affiliated Party Sales in the Ordinary Course of Trade, 67 FR 69186 (November 15, 2002) (Modification to Affiliated Party Sales). However, all of Ispat Indo's home market sales to affiliated customers passed the arm's-length test.

C. Cost of Production Analysis

In the most recently completed segment, the Department determined that Ispat Indo made sales in the home market at prices below its cost of production (COP) and, therefore, excluded such sales from its calculation of NV. See Notice of Preliminary Determination of Sales at Not Less Than Fair Value: Carbon and Certain Alloy Steel Wire Rod from Indonesia, 67 FR 17374, (April 10, 2002).

The Department's affirmative findings of sales-below-cost in the preliminary determination of the less-than-fair-value (LTFV) did not change in the final determination.² Therefore, the Department has reasonable grounds to believe or suspect, pursuant to section 773(b)(2)(A)(ii) of the Act, that Ispat Indo made sales in the home market at prices below the COP for this POR. As a result, in accordance with section 773(b)(1) of the Act, we examined whether Ispat Indo's sales in the home market were made at prices below the COP.

² We note that this is the second administrative review period. No parties requested a review during the first administrative review period.

1. Calculation of COP

We compared sales of the foreign like product in the home market with POR model-specific COP. In accordance with section 773(b)(3) of the Act, we calculated COP based on the sum of the costs of materials and fabrication employed in producing the foreign like product, plus selling, general and administrative (SG&A) expenses, interest expenses, and all costs and expenses incidental to placing the foreign like product in packed condition and ready for shipment. In our sales-below-cost analysis, we relied on home market sales and COP information provided by Ispat Indo in its questionnaire responses, except where noted below:

a. Ispat Indo purchased a portion of its raw materials from an affiliated supplier. In accordance with Section 773(f)(2), we compared the transfer prices between the affiliated supplier and Ispat Indo to market prices and noted that the transfer prices were higher than the market prices. However, we noted that the total direct material costs reported by Ispat Indo to the Department was based on the transfer prices less the markup charged by its affiliate. Therefore, we increased the reported direct material costs to reflect the cost of raw materials as valued by the full transfer price between Ispat Indo and its affiliated supplier, including the affiliate's markup as recorded in Ispat's normal books and records.

b. We revised the G&A expense ratio to exclude amounts reimbursed by Ispat Indo's insurance company related to losses due to a shipwreck and a fire.

For further details regarding these adjustments, see the Department's “Cost of Production and Constructed Value Calculation Adjustments for the Preliminary Results - Ispat Indo” (COP Memorandum), dated July 5, 2005.

2. Test of Home Market Prices

We compared Ispat Indo's weighted-average COPs to its home market sales prices of the foreign like product, as required under section 773(b) of the Act, to determine whether these sales had been made at prices below COP. On a product-specific basis, we compared the COP to home market prices net of any applicable discounts or rebates and movement charges.

In determining whether to disregard home market sales made at prices below the COP, we examined, in accordance with sections 773(b)(1)(A) and (B) of the Act, whether such sales were made in (1) substantial quantities within an extended period of time, and (2) at prices which permitted the recovery of all costs within a reasonable period of time in the normal course of trade.

3. Results of the COP Test

Pursuant to section 773(b)(1), where less than 20 percent of the respondent's sales of a given product are at prices less than the COP, we do not disregard any below-cost sales of that product, because we determine that in such instances the below-cost sales were not made in “substantial quantities.” Where 20 percent or more of a respondent's sales of a given product are at prices less than the COP, we disregard those sales of that product, because we determine that in such instances the below-cost sales represent “substantial quantities” within an extended period of time, in accordance with section 773(b)(1)(A) of the Act. In such cases, we also determine whether such sales were made at prices which would not permit recovery of all costs within a reasonable period of time, in accordance with section 773(b)(1)(B) of the Act.

In the case of Ispat Indo, we did not find an instance where more than 20 percent of a given home market product's sales were at prices less than COP. Therefore, we did not exclude any sales in determining NV.

D. Price-to-Price Comparisons

We based NV on home market prices to unaffiliated and affiliated customers. Home market starting prices were based on packed prices, net of rebates, to affiliated or unaffiliated purchasers in the home market. In Ispat Indo's initial questionnaire response, it stated that home market customers received quantity discounts. After reviewing Ispat Indo's responses to supplemental questionnaires, we preliminary find that the adjustments previously classified as quantity discounts were in fact rebates, as defined in the Department's questionnaire. Therefore, we have preliminarily treated these adjustments as rebates rather than discounts. We made deductions, where appropriate, for inland freight and insurance pursuant to section 773(a)(6)(B) of the Act. In addition, we made adjustments for differences in cost attributable to differences in physical characteristics of the merchandise, pursuant to section 773(a)(6)(C)(ii) of the Act and section 351.411 of the Department's regulations. In accordance with section 773(a)(6)(C)(iii) of the Act and section 351.410 of our regulations, we adjusted home market starting prices for differences in circumstances of sale, i.e., imputed credit expenses and direct bank charges. Finally, we deducted home market packing costs and added U.S. packing costs in accordance with sections 773(a)(6)(A) and (B) of the Act.

Level of Trade

In accordance with section 773(a)(1)(B)(i) of the Act, to the extent practicable, we determine NV based on sales in the home market at the same level of trade (LOT) as the export transaction. See also section 351.412 of the Department's regulations. The NV LOT is the level of the starting-price sales in the comparison market or, when NV is based on CV, the level of the sales from which we derive SG&A expenses and profits. For EP sales, the U.S. LOT is also the level of the starting-price sale, which is usually from the exporter to the importer. See section 351.412(c)(1) of the Department's regulations. As noted in the “Export Price” section above, we preliminarily find that all of Ispat Indo's direct U.S. sales to unrelated customers are properly classified as EP sales.

To determine whether NV sales are at a different LOT than EP sales, we examine stages in the marketing process and selling functions along the chain of distribution between the producer and the unaffiliated customer. If the comparison market sales are at a different LOT than EP sales, and the difference affects price comparability, as manifested in a pattern of consistent price differences between sales on which NV is based and comparison market sales at the LOT of the export transaction, we make a LOT adjustment under section 773(a)(7)(A) of the Act.

In analyzing differences in selling functions, we determine whether the LOTs identified by the respondent are meaningful. See Antidumping Duties; Countervailing Duties, Final Rule, 62 FR 27296, 27371 (May 19, 1997). If the claimed LOTs are the same, we expect that the functions and activities of the seller should be similar. Conversely, if a party claims that LOTs are different for different groups of sales, the functions and activities of the seller should be dissimilar. See Porcelain-on-Steel Cookware from Mexico: Final Results of Administrative Review, 65 FR 30068 (May 10, 2000).

In determining whether separate LOTs existed in the home market for the respondent, we examine whether the respondent's sales involved different marketing stages (or their equivalent) based on the channel of distribution, customer categories, and selling functions (or services offered) to each customer or customer category, in both markets.

In this review, Ispat Indo stated that it made sales in the home market directly to end users through one channel of distribution. The channel consists of Ispat Indo selling directly to both unaffiliated and affiliated end-users (i.e., OEMs) in the home market. For the home market channel of distribution, Ispat Indo stated that it provided a high degree of assistance for sales forecasting, strategic economic planning, order/input processing, direct sales personnel support, sales/marketing support, market research, and technical assistance. Also, Ispat Indo provided a medium degree of assistance for personnel training/exchange, packing, and inventory maintenance; and a low degree of assistance for rebates. We preliminarily find there to be one LOT for home market sales.In the U.S. market, Ispat Indo also stated that it had one channel of distribution where the respondent sold to end-users (via its foreign-based affiliate) in the U.S. Within the U.S. channel of distribution, Ispat Indo stated that it provided a high degree of assistance for packing, order input/processing, direct sales personnel, sales/marketing support, after-sales services, freight and delivery, and technical assistance. Also, Ispat Indo stated that it has a medium degree of assistance for market research. We preliminarily find there to be one LOT for U.S. sales.

In analyzing Ispat Indo's selling activities for its home market and U.S. market, we determined that essentially the same level of services were provided for both markets. Specifically, for home market sales, the customer directly contacts Ispat Indo and negotiates the material terms of sale. Subsequently, Ispat Indo issues a sales contract to the Indonesian customer, and begins production. Upon shipment of the merchandise to the customer, Ispat Indo issues the invoice to the customer. See Ispat Indo's Section A Response at Exhibit A-5. The selling methods in the U.S. market are virtually the same, with the exception that all export sales, including the U.S. sales subject to this review, were made through its foreign-based affiliate. See Ispat Indo's Section A Response at A-20. Ispat Indo explained that its foreign-based affiliate handles processing of sales documentation and receipt of payment from the U.S. customer. However, Ispat Indo has direct contact with the U.S. customer, handles all sales negotiations, and direct ships the merchandise from the port of exportation in Indonesia to the U.S. customer. These negotiations are then confirmed by Ispat Indo's foreign-based affiliate via issuance of a sales contract to the U.S. customer. Once a sales contract has been issued to the U.S. customer, Ispat Indo will begin production of the ordered material. See Ispat Indo's Section A Response at A-16. Subsequent to shipment of the merchandise, Ispat Indo invoices its foreign-based affiliate, who then in turn issues an invoice to the U.S. customer. The U.S. customer remits payment to the foreign-based affiliate, who then in turn remits payment to Ispat Indo. In light of all the above, we do not consider the selling methods for both markets to represent different LOTs.

Therefore, we have preliminarily determined that the LOT for all EP sales is the same as the LOT for all sales in the home market. Based on our analysis of selling functions and because we find home market and U.S. sales at the same LOT, no LOT adjustment under section 773(a)(7)(A) of the Act is warranted for Ispat Indo.

Currency Conversion

We made currency conversions in accordance with section 773A(a) of the Act, and section 351.415 of the Department's regulations, based on the exchange rates in effect on the dates of the U.S. sales, as certified by Dow Jones Reuter Business Interactive, LLC (trading as Factiva).

Preliminary Results of Review

As a result of our review, we preliminarily determine the weighted-average dumping margin for the period October 1, 2003, through September 30, 2004, to be as follows:

Manufacturer/exporter | Margin (percent)
P.T. Ispat Indo | 0.38

The Department will disclose to parties to this proceeding the calculations performed in connection with these preliminary results of review within 5 days of the date of publication of this notice in accordance with 19 CFR 351.224(b). Pursuant to 19 CFR 351.309, interested parties may submit case briefs and/or written comments no later than 30 days after the date of publication of these preliminary results of review. Rebuttal comments and briefs must be limited to issues raised in the case briefs and comments, and may be filed no later than 35 days after the date of publication of this notice. Parties who submit argument in these proceedings are requested to submit with the argument: 1) a statement of the issue, 2) a brief summary of the argument, and (3) a table of authorities. An interested party may request a hearing within 30 days of the date of publication of this notice. See section 351.310(c) of the Department's regulations. Unless otherwise specified, the hearing, if requested, will be held 2 days after the date for submission of rebuttal briefs, or the first working day thereafter. The Department will issue the final results of this administrative review, including the results of its analysis of issues raised in any case and rebuttal briefs and comments, within 120 days of publication of these preliminary results.

Assessment Rates

Upon completion of this administrative review, the Department will determine, and CBP shall assess, antidumping duties on all appropriate entries. In accordance with 19 CFR 351.212(b)(1), we have calculated an importer-specific ad valorem rate for merchandise subject to this review. The Department will issue appropriate assessment instructions directly to CBP within 15 days of publication of the final results of review. If these preliminary results are adopted in the final results of review, we will direct CBP to assess the resulting assessment rates (ad valorem) against the entered customs values for the subject merchandise on each of the importer's entries during the review period.

Cash Deposit Requirements

The following deposit requirements will be effective upon publication of the final results of this administrative review for all shipments of the subject merchandise entered, or withdrawn from warehouse, for consumption on or after the publication date of the final results of this administrative review, as provided by section 751(a)(1) of the Act: (1) the cash deposit rate for the company listed above will be the rate established in the final results of this review (except that no deposit will be required if the rate is zero or de minims, i.e., less than 0.50 percent); (2) for previously reviewed or investigated companies not listed above, the cash deposit rate will continue to be the company-specific rate established for the most recent period; (3) if the exporter is not a firm covered in this review, a prior review, or the original LTFV investigation, but the manufacturer is, the cash deposit rate will be the rate established for the most recent period for the manufacturer of the subject merchandise; and (4) if neither the exporter nor the manufacturer is a firm covered in this review, any previous reviews, or the LTFV investigation, the cash deposit rate will continue to be 4.06 percent, the “all others” rate established in the LTFV investigation. See Notice of Final Determination of Sales at Less Than Fair Value: Carbon and Certain Alloy Steel Wire Rod From Indonesia, 67 FR 55798 (August 30, 2002). These deposit rates, when imposed, shall remain in effect until publication of the final results of the next administrative review.

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

These preliminary results are issued and in accordance with sections 751(a)(1) and 777(i)(1) of the Act.

Dated: July 5, 2005.
Barbara E. Tillman,
Acting Assistant Secretary for Import Administration.

[FR Doc. E5-3658 Filed 7-8-05; 8:45 am]

BILLING CODE 3510-DS-S